ENVIRONMENTAL PROTECTION AGENCY

[EPA-HQ-OEI-2017-0380; FRL—9971-06-OEI]

Information Collection Request Submitted to OMB for Review and Approval; Comment Request; Generic Clearance for the Collection of Qualitative Feedback on Agency Service Delivery (Renewal)

AGENCY: Environmental Protection Agency (EPA).

ACTION: Notice.

SUMMARY: The Environmental Protection Agency has submitted an information collection request (ICR), Generic Clearance for the Collection of Qualitative Feedback on Agency Service Delivery (EPA ICR No. 2434.75, OMB Control No. 2010-0042) to the Office of Management and Budget (OMB) for review and approval in accordance with the Paperwork Reduction Act. This is a proposed extension of the ICR, which is currently approved through November 30, 2017. Public comments were previously requested via the Federal Register (82 FR 33908) on July 21, 2017 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 21, 2017.

ADDRESSES: Submit your comments, referencing Docket ID Number EPA-HQ-OEI-2017-0380, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Courtney Kerwin, Office of Environmental Information, Regulatory Support Division, (2821T), Environmental Protection Agency, 1200 Pennsylvania Ave. NW., Washington, DC 20460; telephone number: 202-566-1669; email address: kerwin.courtney@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The proposed information collection activity provides a means to garner qualitative customer and stakeholder feedback in an efficient, timely manner, in accordance with the Agency's commitment to improving service delivery. Qualitative feedback includes information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management. The solicitation of feedback will target areas such as: Timeliness, appropriateness, accuracy of information, courtesy, efficiency of service delivery, and resolution of issues with service delivery. Responses will be assessed to plan and inform efforts to improve or maintain the quality of service offered to the public. The Agency will only submit a collection for approval under this generic clearance if it meets the following conditions.

• The collections are voluntary.

• The collections are low-burden for respondents and are low-cost for both the respondents and the Federal Government.

• The collections are noncontroversial and do not raise issues of concern to other Federal agencies.

• Any collection is targeted to the solicitation of opinions from respondents who have experience with the program or may have experience with the program in the near future.

• Personally identifiable information (PII) is collected only to the extent necessary and is not retained.

• Information gathered will be used only internally for general service improvement and program management purposes and is not intended for release outside of the agency.

• Information gathered will not be used for the purpose of substantially informing influential policy decisions.

• Information gathered will yield qualitative information; the collections will not be designed or expected to yield statistically reliable results or used as though the results are generalizable to the population of study.

Respondents/affected entities: Individuals and Households; Businesses and Organizations; State, Local or Tribal Government.

Respondent's obligation to respond: Voluntary.

Estimated number of respondents: 120,000 (total).

Frequency of response: Once per request.

Total estimated burden: 30,000 hours (per year). Burden is defined at 5 CFR 1320.03(b).

Total estimated cost: $0 (per year), includes $0 annualized capital or operation & maintenance costs.

Changes in the estimates: There is increase of 10,000 hours in the total estimated respondent burden compared with the ICR currently approved by OMB. This increase in hours is due to the increase in the use of surveys by the Agency.

Courtney Kerwin,
Director, Regulatory Support Division.

[FR Doc. 2017-25162 Filed 11-20-17; 8:45 am]

BILLING CODE 6560-50-P